DEPARTMENT OF THE INTERIOR

Bureau of Reclamation

Agency Information Collection Activities Under OMB Review; Comment Request

AGENCY: Bureau of Reclamation, Interior.

ACTION: Notice of renewal of currently approved collection (OMB No. 1006-0005).

SUMMARY: In accordance with the Paperwork Reduction Act of 1995 (44 U.S.C. 3501 et seq.), this notice announces the following Information Collection Request (ICR) has been forwarded to the Office of Management and Budget (OMB) for review and approval: Individual Landholder's and Farm Operator's Certification and Reporting Forms for Acreage Limitation, 43 CFR part 426 and 43 CFR part 428, OMB Control Number: 1006-0005. The ICR describes the nature of the information collection and its expected cost and burden.

DATES: Your comments must be received on or before August 4, 2005.

ADDRESSES: You may send comments regarding the burden estimate, or any other aspect of the information collection, including suggestions for reducing the burden, to the Desk Officer for the Department of the Interior at the Office of Management and Budget, Office of Information and Regulatory Affairs, via facsimile to (202) 395-6566 or e-mail to OIRA_DOCKET@omb.eop.gov. A copy of your comments should also be directed to the Bureau of Reclamation, Attention: D-5300, P.O. Box 25007, Denver, CO 80225-0007.

FOR FURTHER INFORMATION CONTACT: For further information or a copy of the proposed forms contact Stephanie McPhee, D-5300, P.O. Box 25007, Denver, CO 80225-0007; or by telephone: (303) 445-2897.

SUPPLEMENTARY INFORMATION: Title: Individual Landholder's and Farm Operator's Certification and Reporting Forms for Acreage Limitation, 43 CFR part 426 and 43 CFR part 428.

Abstract: This information collection requires certain landholders (direct or indirect landowners or lessees) and farm operators to complete forms demonstrating their compliance with the acreage limitation provisions of Federal reclamation law. These forms are submitted to districts who use the information to establish each landholder's status with respect to landownership limitations, full-cost pricing thresholds, lease requirements, and other provisions of Federal reclamation law. In addition, forms are submitted by certain farm operators to provide information concerning the services they provide and the nature of their farm operating arrangements.

All landholders whose entire westwide landholdings total 40 acres or less are exempt from the requirement to submit Reclamation Reform Act of 1982 (RRA) forms. Landholders who are “qualified recipients” have RRA forms submittal thresholds of 80 acres or 240 acres depending on the district's RRA forms submittal threshold category where the land is held. Only farm operators who provide multiple services to more than 960 acres held in trusts or by legal entities are required to submit forms. This collection of information allows the Bureau of Reclamation (we, our, or us) to establish landholders' compliance with Federal reclamation law.

Changes to the RRA forms and the instructions to those forms: Several proposed changes were made to the current RRA forms and the instructions to those forms prior to the 60-day comment period initiated by the notice published in the Federal Register on February 1, 2005 (70 FR 5219, Feb. 1, 2005). Those changes were designed to increase the respondents' understanding of the forms, instructions to the forms, and what information is required to be submitted with the forms to the districts. Comments resulting from the 60-day comment period consisted of minor language additions, deletions, and revisions to specific areas of certain RRA forms. Such additions, deletions, and revisions reflected language found in current RRA directives and/or in other places within the current RRA forms. Changes based on the comments received were made when the changes resulted in increased clarity and increased correctness of the RRA forms and the corresponding instructions. All other changes that were made are editorial or typographical in nature. The proposed revisions to the RRA forms will be included starting in the 2006 water year.

Frequency: Annually.

Respondents: Landholders and farm operators of certain lands in our projects, whose westwide landholdings exceed specified RRA forms submittal thresholds.

Estimated Total Number of Respondents: 17,875.

Estimated Number of Responses per Respondent: 1.02.

Estimated Total Number of Annual Responses: 18,233.

Estimated Total Annual Burden on Respondents: 13,590 hours.

Estimate of Burden for Each Form:

Form No. | Estimated Number of respondents | Frequency of response | Total annual responses | Burden estimate per form (in minutes) | Total burden hours
Form 7-2180 | 4,963 | 1.02 | 5,062 | 60 | 5,062
Form 7-2180EZ | 503 | 1.02 | 513 | 45 | 385
Form 7-2181 | 1,467 | 1.02 | 1,496 | 78 | 1,945
Form 7-2184 | 36 | 1.02 | 37 | 45 | 28
Form 7-2190 | 1,845 | 1.02 | 1,882 | 60 | 1,882
Form 7-2190EZ | 109 | 1.02 | 111 | 45 | 83
Form 7-2191 | 880 | 1.02 | 898 | 78 | 1,167
Form 7-2194 | 4 | 1.02 | 4 | 45 | 3
Form 7-21PE | 178 | 1.02 | 182 | 75 | 228
Form 7-21PE-IND | 5 | 1.02 | 5 | 12 | 1
Form 7-21TRUST | 1,045 | 1.02 | 1,066 | 60 | 1,066
Form 7-21VERIFY | 6,237 | 1.02 | 6,362 | 12 | 1,272
Form 7-21FC | 243 | 1.02 | 248 | 30 | 124
Form 7-21XS | 164 | 1.02 | 167 | 30 | 84
Form 7-21FARMOP | 196 | 1.02 | 200 | 78 | 260
Total | 17,875 | 1.02 | 18,233 |  | 13,590

Comments

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to a collection of information unless it displays a currently valid OMB control number. Reclamation will display a valid OMB control number on the RRA forms. A Federal Register notice with a 60-day comment period soliciting comments on this collection of information was published in the Federal Register on February 1, 2005 (70 FR 5219, Feb. 1, 2005). A list of the comments received and our responses to those comments will be sent to: (1) all districts, (2) all commenters, and (3) OMB with the ICR; it is also available from us upon request.

OMB has up to 60 days to approve or disapprove this information collection, but may respond after 30 days; therefore, public comment should be submitted to OMB within 30 days in order to assure maximum consideration.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: June 17, 2005.
Roseann Gonzales,
Director, Office of Program and Policy Services.

[FR Doc. 05-13138 Filed 7-1-05; 8:45 am]

BILLING CODE 4310-MN-P